DEPARTMENT OF THE INTERIOR

Fish and Wildlife Service

[FWS-HQ-FAC-2018-N135; FXFR13360900000-FF09F14000-189]

Aquatic Nuisance Species Task Force Meeting

AGENCY: Fish and Wildlife Service, Interior.

ACTION: Notice of meeting.

SUMMARY: We, the U.S. Fish and Wildlife Service, announce a public meeting of the Aquatic Nuisance Species (ANS) Task Force, in accordance with the Federal Advisory Committee Act. The ANS Task Force's purpose is to develop and implement a program for U.S. waters to prevent introduction and dispersal of aquatic invasive species; to monitor, control, and study such species; and to disseminate related information.

DATES: The ANS Task Force will meet Wednesday and Thursday, December 12-13, 2018, from 8 a.m. to 5 p.m. each day. The meeting is open to the public; for security purposes, signup is required. For more information, contact the ANS Task Force Executive Secretary (see FOR FURTHER INFORMATION CONTACT). This notice is being published less than 15 days prior to the meeting date due to unexpected administrative delays.

ADDRESSES: Meeting location: The ANS Task Force meeting will take place at the U.S. Fish and Wildlife Headquarters, 5275 Leesburg Pike, Falls Church, VA 22041.

Comment submission: You may submit written comments in advance of the meeting by emailing them to the ANS Task Force Executive Secretary (see FOR FURTHER INFORMATION CONTACT).

FOR FURTHER INFORMATION CONTACT: Susan Pasko, ANS Task Force Executive Secretary, by telephone at (703) 358-2466, or by email at Susan_Pasko@fws.gov.

Accessibility: The U.S. Fish and Wildlife Service is committed to providing access to this meeting for all participants. Please direct all requests for sign language interpreting services, closed captioning, or other accommodation needs to the ANS Task Force Executive Secretary, by using the contact information above or via TTY at 800-877-8339, by close of business on December 5, 2018.

SUPPLEMENTARY INFORMATION: We, the U.S. Fish and Wildlife Service (Service), announce a public meeting of the Aquatic Nuisance Species (ANS) Task Force, in accordance with the Federal Advisory Committee Act (5 U.S.C. Appendix 2). The ANS Task Force was established by the Nonindigenous Aquatic Nuisance Prevention and Control Act of 1990, as amended (NANPCA; 16 U.S.C. 4701 et seq.), is composed of 13 Federal and 15 ex-officio members, and is co-chaired by the U.S. Fish and Wildlife Service and the National Oceanic and Atmospheric Administration. The ANS Task Force's purpose is to develop and implement a program for U.S. waters to prevent introduction and dispersal of aquatic invasive species; to monitor, control, and study such species; and to disseminate related information.

Meeting Agenda

• Discuss the content of the draft ANS Task Force Strategic Plan for 2019-2024.

• Review and discuss the draft ANS Task Force Report to Congress for 2016-2017.

• Respond to recommendations from the ANS Task Force regional panels.

The final agenda and other related meeting information will be posted on the Task Force website at http://anstaskforce.gov. Summary minutes of the meeting will be maintained by the Executive Secretary and will be available for public inspection within 90 days after the meeting at http://anstaskforce.gov.

Public Input

If you comment, before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

David Hoskins,
Co-Chair, Aquatic Nuisance Species Task Force, Assistant Director for Fish and Aquatic Conservation.

[FR Doc. 2018-26019 Filed 11-27-18; 11:15 am]

BILLING CODE 4333-15-P